DEPARTMENT OF JUSTICE

National Institute of Justice

[OJP(NIJ)-1295]

Meeting of the Working Groups of the National Commission on the Future of DNA Evidence

AGENCY: Office of Justice Programs, National Institute of Justice, Justice.

ACTION: Notice of meeting.

SUMMARY: Announcement of a meeting of members of the working groups of the National Commission on the Future of DNA Evidence to discuss an issue in brief regarding suspect/elimination sample DNA databases.

DATES: The meeting will take place on Sunday, September 24, 2000 from 12 p.m. to 5 p.m., ET, and on Monday, September 25, 2000 from 9 a.m. to 5 p.m., ET.

ADDRESSES: The meeting will take place at the Empire Hotel located at 44 West 63rd Street, New York, NY 10023; Phone: (212) 265-7400.

FOR FURTHER INFORMATION CONTACT: Christopher H. Asplen, AUSA, Executive Director. Phone: (202) 616-8123. [This is not a toll-free number]. Anyone requiring special accommodations should contact Mr. Asplen in advance of the meeting.

SUPPLEMENTARY INFORMATION:

Authority: This action is authorized under the Omnibus Crime Control and Safe Streets Act of 1968, sections 201-03, as amended, 42 U.S.C. 3721-23 (1994).

Background

The National Commission on the Future of DNA Evidence, established pursuant to section 3(2)A of the Federal Advisory Committee Act (FACA), 5 U.S.C. App. 2, will meet to carry out its advisory functions under sections 201-202 of the Omnibus Crime Control and Safe Streets Act of 1968, as amended. This meeting will be open to the public.

The purpose of the National Commission on the Future of DNA Evidence is to provide the Attorney General with recommendations on the use of current and future DNA methods, applications and technologies in the operation of the criminal justice system, from the crime scene to the courtroom. Over the course of its Charter, the Commission will review critical policy issues regarding DNA evidence and provide recommended courses of action to improve its use as a tool of investigation and adjudication in criminal cases.

The Commission will address issues in five specific areas: (1) The use of DNA in postconviction relief cases, (2) legal concerns including Daubert challenges and the scope of discovery in DNA cases, (3) criteria for training and technical assistance for criminal justice professionals involved in the identification, collection and preservation of DNA evidence at the crime scene, (4) essential laboratory capabilities in the face of emerging technologies, and (5) the impact of future technological developments in the use of DNA in the criminal justice system. Each topic will be the focus of the in-depth analysis by separate working groups comprised of prominent professionals who will report back to the Commission.

Dated: August 24, 2000.
Doug Horner,
Acting Assistant Director, National Institute of Justice.

[FR Doc. 00-22071 Filed 8-28-00; 8:45 am]

BILLING CODE 4410-18-P